ENVIRONMENTAL PROTECTION AGENCY

[EPA-HQ-OMS-2021-0325; FRL-10864-01-OMS]

Agency Information Collection Activities; Submission to the Office of Management and Budget for Review and Approval; Comment Request; Improving Customer Service

AGENCY: Environmental Protection Agency (EPA).

ACTION: Notice.

SUMMARY: The Environmental Protection Agency (EPA) has submitted an information collection request (ICR), Improving Customer Service (EPA ICR Number 2687.01, OMB Control Number 2030-NEW) to the Office of Management and Budget (OMB) for review and approval in accordance with the Paperwork Reduction Act. This is a proposed new ICR. Public comments were previously requested via the Federal Register on October 13, 2021, during a 60-day comment period. This notice allows for an additional 30 days for public comments.

DATES: Comments may be submitted on or before May 4, 2023.

ADDRESSES: Submit your comments, referencing Docket ID Number EPA-HQ-OMS-2021-0325, to EPA online using https://www.regulations.gov/ (our preferred method) or by mail to EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Augusto Cangahuala, Office of Customer Advocacy, Policy, and Portfolio Management, U.S. Environmental Protection Agency, 1200 Pennsylvania Ave. NW, Washington, DC 20460; telephone number: 202-564-1646; email address: Cangahuala.Augusto@epa.gov.

SUPPLEMENTARY INFORMATION: This is a new ICR. An agency may not conduct, or sponsor and a person is not required to respond to a collection of information unless it displays a currently valid OMB control number.

Public comments were previously requested via the Federal Register on October 13, 2021, during a 60-day comment period (86 FR 56932). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: A modern, streamlined and responsive customer experience means: raising government-wide customer experience to the average of the private sector service industry; developing indicators for high-impact Federal programs to monitor progress towards excellent customer experience and mature digital services; and providing the structure (including increasing transparency) and resources to ensure customer experience is a focal point for agency leadership. This proposed information collection activity provides a means to garner customer and stakeholder feedback in an efficient, timely manner in accordance with the Administration's commitment to improving customer service delivery as discussed in Section 280 of OMB Circular A-11 at https://www.performance.gov/cx/a11-280.pdf. As discussed in OMB guidance, agencies should identify their highest-impact customer journeys (using customer volume, annual program cost, and/or knowledge of customer priority as weighting factors) and select touchpoints/transactions within those journeys to collect feedback. These results will be used to improve the delivery of Federal services and programs. It will also provide government-wide data on customer experience that can be displayed on www.performance.gov to help build transparency and accountability of Federal programs to the customers they serve. As a general matter, these information collections will not result in any new system of records containing privacy information and will not ask questions of a sensitive nature, such as sexual behavior and attitudes, religious beliefs, and other matters that are commonly considered private.

The Environmental Protection Agency will only submit collections if they meet the following criteria.

• The collections are voluntary.

• The collections are low burden for respondents (based on total burden hours or burden-hours per respondent) and are low cost for respondents and the Federal Government.

• The collections are non-controversial and do not raise issues of concern to Federal agencies.

• Any collection is targeted to the solicitation of opinions from respondents who have experience with the program or may have experience with the program in the near future.

• Personally identifiable information (PII) is collected to the extent necessary and not retained.

• Information gathered is intended to be used for general service improvement and program management purposes.

• Upon agreement between OMB and the agency all or a subset of information may be released as part of A-11, Section 280 requirements only on performance.gov. Summaries of customer research and user testing activities may be included in public-facing customer journey maps or summaries.

• Additional release of data must be done coordinated with OMB.

These collections will allow for ongoing, collaborative and actionable communications between the Agency, its customers and stakeholders, and OMB as it monitors agency compliance on Section 280. These responses will inform efforts to improve or maintain the quality of service offered to the public. If this information is not collected, vital feedback from customers and stakeholders on services will be unavailable.

Form Numbers: None.

Respondents/affected entities: Individuals and entities who have experience with the program or may have experience with the program in the near future.

Respondent's obligation to respond: Voluntary.

Estimated number of respondents: 2,001,550 (total).

Frequency of response: On occasion.

Total estimated burden: 101,125 hours.

Estimated annual cost: There are no annualized capital/startup or operation & maintenance costs.

Changes in estimates: This is a new collection.

Courtney Kerwin,
Director, Regulatory Support Division.

[FR Doc. 2023-06966 Filed 4-3-23; 8:45 am]

BILLING CODE 6560-50-P